OFFICE OF PERSONNEL MANAGEMENT

5 CFR Part 532

RIN 3206-AN37

Prevailing Rate Systems; Redefinition of the Asheville, NC, and Charlotte, NC, Appropriated Fund Federal Wage System Wage Areas

AGENCY: U.S. Office of Personnel Management.

ACTION: Final rule.

SUMMARY: The U.S. Office of Personnel Management (OPM) is issuing a proposed rule to redefine the geographic boundaries of the Asheville, NC, and Charlotte, NC, appropriated fund Federal Wage System (FWS) wage areas. The final rule will redefine Alexander and Catawba Counties, NC, from the Charlotte wage area to the Asheville wage area. These changes are based on a consensus recommendation of the Federal Prevailing Rate Advisory Committee (FPRAC) to best match the counties proposed for redefinition to a nearby FWS survey area.

DATES: Effective date: This regulation is effective on August 24, 2016. Applicability date: This change applies on the first day of the first applicable pay period beginning on or after September 23, 2016.

FOR FURTHER INFORMATION CONTACT: Madeline Gonzalez, by telephone at (202) 606-2858 or by email at pay-leave-policy@opm.gov.

SUPPLEMENTARY INFORMATION: On April 27, 2016, OPM issued a proposed rule (81 FR 24737) to redefine Alexander and Catawba Counties, NC, from the Charlotte, NC, wage area to the Asheville, NC, wage area. FPRAC, the national labor-management committee responsible for advising OPM on matters concerning the pay of FWS employees, reviewed and recommended these changes by consensus. There are no FWS employees stationed in Alexander or Catawba Counties.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, OPM amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Asheville, NC and Charlotte, NC, wage areas to read as follows:

Appendix C to Subpart B of Part 532—Appropriated Fund Wage and Survey Areas

* * * * *

NORTH CAROLINA
Asheville
Survey Area
North Carolina:
Buncombe
Haywood
Henderson
Madison
Transylvania
Area of Application. Survey area plus:
North Carolina:
Alexander
Avery
Burke
Caldwell
Catawba
Cherokee
Clay
Graham
Jackson
McDowell
Macon
Mitchell
Polk
Rutherford
Swain
Yancey
* * * * *
Charlotte
Survey Area
North Carolina:
Cabarrus
Gaston
Mecklenburg
Rowan
Union
Area of Application. Survey area plus:
North Carolina:
Anson
Cleveland
Iredell
Lincoln
Stanly
Wilkes
South Carolina:
Chester
Chesterfield
Lancaster
York

* * * * *

[FR Doc. 2016-20172 Filed 8-23-16; 8:45 am]

BILLING CODE 6325-39-P